DEPARTMENT OF COMMERCE

National Oceanic and Atmospheric Administration

50 CFR Part 648

[Docket No. 240429-0120]

RIN 0648-BM71

Magnuson-Stevens Fishery Conservation and Management Act Provisions; Fisheries of the Northeastern United States; Northeast Multispecies Fishery; Framework Adjustment 66

AGENCY: National Marine Fisheries Service (NMFS), National Oceanic and Atmospheric Administration (NOAA), Commerce.

ACTION: Final rule.

SUMMARY: This action approves and implements Framework Adjustment 66 to the Northeast Multispecies Fishery Management Plan (FMP). This rule sets catch limits for 8 of the 20 multispecies stocks, modifies the accountability measure (AM) implementation catch threshold for Atlantic halibut, and makes a temporary modification to the AM implementation catch threshold for the scallop fishery for Georges Bank (GB) yellowtail flounder. This action is necessary to respond to updated scientific information and to achieve the goals and objectives of the fishery management plan. The measures are intended to help prevent overfishing, rebuild overfished stocks, achieve optimum yield, and ensure that management measures are based on the best scientific information available.

DATES: Effective May 2, 2024.

ADDRESSES: Copies of Framework Adjustment 66, including the draft Environmental Assessment, the Regulatory Impact Review, and the Regulatory Flexibility Act Analysis prepared by the New England Fishery Management Council in support of this action, are available from Dr. Cate O'Keefe, Executive Director, New England Fishery Management Council, 50 Water Street, Mill 2, Newburyport, MA 01950. The supporting documents are also accessible via the internet at: http://www.nefmc.org/management-plans/northeast-multispecies or http://www.regulations.gov.

FOR FURTHER INFORMATION CONTACT: Liz Sullivan, Fishery Policy Analyst, phone: 978-282-8493; email: Liz.Sullivan@noaa.gov.

SUPPLEMENTARY INFORMATION:

Summary of Approved Measures

The New England Fishery Management Council (Council) adopted Framework Adjustment 66 to the Northeast Multispecies FMP on December 7, 2023. The Council submitted Framework 66, including an environmental assessment (EA), for NMFS approval on February 16, 2024. NMFS published a proposed rule for Framework 66 on March 22, 2024 (89 FR 20412), with a 15-day comment period that closed on April 8, 2024.

Under the Magnuson-Stevens Fishery Conservation and Management Act (Magnuson-Stevens Act) and on behalf of the Secretary of Commerce, the Greater Atlantic Regional Fisheries Office's Regional Administrator (Regional Administrator) approves, disapproves, or partially approves measures that the Council proposes, based on consistency with the Magnuson-Stevens Act and other applicable law. NMFS reviews recommended specifications and proposed measures for consistency with the fishery management plan, plan amendments, the Magnuson-Stevens Act and other applicable law, and publishes proposed regulations, solicits public comment, and promulgates final regulations. Based on information provided in the EA and considered during the preparation of this action, and after consideration of comments, NMFS has approved all of the measures in Framework 66 recommended by the Council, as described below. The measures implemented in this final rule:

• Set shared U.S./Canada quotas for GB yellowtail flounder and eastern GB cod and haddock for fishing years 2024 and 2025;

• Set specifications, including catch limits for eight groundfish stocks: redfish, northern windowpane flounder, and southern windowpane flounder for fishing years 2024-2026; and GB cod, GB haddock, Gulf of Maine (GOM) haddock, GB yellowtail flounder, and white hake for fishing years 2024-2025;

• Make a minor adjustment to the subcomponent quotas for GOM cod and adjust the amount set aside for Canadian catch for Atlantic halibut;

• Remove the management uncertainty buffer for sectors for GOM haddock and white hake if the at-sea monitoring (ASM) target coverage level is set at 90 percent or greater for the 2024 and 2025 fishing years;

• Modify the catch threshold for implementing the Atlantic halibut accountability measures (AM); and

• Temporarily modify the catch threshold for implementing the scallop fishery's AM for GB yellowtail flounder.

This action also makes minor, clarifying regulatory changes that are not part of Framework 66, but are implemented under section 305(d) authority in the Magnuson-Stevens Act to make changes necessary to carry out the FMP. NMFS is making these changes in conjunction with the Framework 66 proposed measures for expediency purposes. These changes are described below under the heading, Minor, Clarifying Regulatory Changes under Secretarial Authority.

Fishing Years 2024 and 2025 Shared U.S./Canada Quotas

Management of Transboundary Georges Bank Stocks

As described in the proposed rule, eastern GB cod, eastern GB haddock, and GB yellowtail flounder are jointly managed with Canada under the United States/Canada Resource Sharing Understanding. This action adopts shared U.S./Canada quotas for these stocks for fishing year 2024 based on 2023 assessments and the recommendations of the Transboundary Management Guidance Committee (TMGC) and consistent with the Council's Scientific and Statistical Committee (SSC) recommendations. Framework 66 sets the same shared quotas for a second year (i.e., for fishing year 2025) as placeholders, with the expectation that those quotas will be reviewed annually and new recommendations will be received from the TMGC. The 2024 and 2025 shared U.S./Canada quotas, and each country's allocation, are listed in table 1.

Table 1—2024 and 2025 Fishing Years U.S./Canada Quotas (metric tons (mt), live weight) and Percent of Quota Allocated to Each Country
Quota | Eastern GB cod | Eastern GB haddock | GB yellowtail flounder
Total Shared Quota | 520 | 10,000 | 168.
U.S. Quota | 151 (29 percent) | 3,100 (31 percent) | 71 (42 percent).
Canadian Quota | 369 (71 percent) | 6,900 (69 percent) | 97 (58 percent).

The regulations implementing the U.S./Canada Resource Sharing Understanding at 50 CFR 648.85(a) require deducting any overages of the U.S. quota for eastern GB cod, eastern GB haddock, or GB yellowtail flounder from the U.S. quota in the following fishing year. If catch information for the 2023 fishing year indicates that the U.S. fishery exceeded its quota for any of the shared stocks, NMFS will reduce the respective U.S. quotas for the 2024 fishing year in a future management action, as close to May 1, 2024, as possible. If any fishery that is allocated a portion of the U.S. quota exceeds its allocation and causes an overage of the overall U.S. quota, the overage reduction would be applied only to that fishery's allocation in the following fishing year. This ensures that catch by one component of the overall fishery does not negatively affect another component of the overall fishery.

Catch Limits for Fishing Years 2024-2026

Summary of the Catch Limits

This rule adopts catch limits for redfish, northern windowpane flounder, and southern windowpane flounder for the 2024-2026 fishing years, based on stock assessments completed in 2023, and catch limits for GB cod, GB haddock, GOM haddock, GB yellowtail flounder, and white hake for fishing years 2024-2025. Framework 65 (86 FR 40353, July 28, 2021) previously set 2024-2025 quotas for the remaining groundfish stocks, other than GOM cod, based on assessments conducted in 2022, and those remain in place. Framework 63 (87 FR 42375, July 15, 2022) previously set the 2024 quota for GOM cod, based on an assessment conducted in 2021, and that also remains in place. The catch limits implemented in this action, including overfishing limits (OFL), acceptable biological catches (ABC), and annual catch limits (ACL), are listed in tables 2 through 10. A summary of how these catch limits were developed, including the distribution to the various fishery components, was provided in the proposed rule and in appendix II (Calculation of Northeast Multispecies Annual Catch Limits, FY 2024-FY 2026) to the EA, and is not repeated here. The sector and common pool sub-ACLs implemented in this action are based on fishing year 2024 potential sector contributions (PSC) and preliminary fishing year 2024 sector rosters.

Management Uncertainty Buffer for Sectors

NMFS approves the measure in Framework 66 that removes the management uncertainty buffer for the sector sub-ACL for GOM haddock and white hake if the ASM coverage target is 90 percent or higher. This measure remains in place for the next 2 fishing years unless the Council adopts, and NMFS approves and implements, new specifications for fishing year 2025 based on updated assessments.

Amendment 23 (87 FR 75852, December 9, 2022) implemented a measure to remove the management uncertainty buffer for the sector sub-ACL for each allocated groundfish stock in years that the ASM coverage target is set at 100 percent, unless otherwise warranted. On February 20, 2024, the Regional Administrator announced the preliminary ASM coverage target of 100 percent and nothing has changed since that announcement to require a lower ASM coverage target. Therefore, in this action, NMFS is removing the management uncertainty buffer for each allocated stock for all sectors for the entirety of the 2024 fishing year. If the Regional Administrator makes a final determination with a lower ASM coverage target, the sectors' buffers will not be reinstated. Because the removal of the buffer is dependent on the annual determination of the ASM coverage target and consideration of its merit, the determination regarding the buffer in fishing year 2025 would be made in a future action.

Table 2—Fishing Years 2024-2026 Overfishing Limits and Acceptable Biological Catches
[mt, live weight]
Stock | 2024: OFL | 2024: U.S. ABC | Percent change from 2023 | 2025: OFL | 2025: U.S. ABC | 2026: OFL | 2026: U.S. ABC
GB Cod | UNK | 535 | 3 | UNK |  |  |
GOM Cod | 980 | 551 | 0 |  |  |  |
GB Haddock | 17,768 | 7,058 | −41 | 15,096 | 5,382 |  |
GOM Haddock | 2,651 | 2,406 | −4 | 2,549 | 2,312 |  |
GB Yellowtail Flounder | UNK | 71 | −33 | UNK | 71 |  |
SNE/MA Yellowtail Flounder | 89 | 40 | 0 | 345 | 40 |  |
CC/GOM Yellowtail Flounder | 1,279 | 992 | −11 | 1,184 | 915 |  |
American Plaice | 7,091 | 5,520 | −3 | 6,763 | 5,270 |  |
Witch Flounder | UNK | 1,256 | 0 | UNK | 1,256 |  |
GB Winter Flounder | 2,153 | 1,549 | −9 | 2,100 | 1,490 |  |
GOM Winter Flounder | 1,072 | 804 | 0 | 1,072 | 804 |  |
SNE/MA Winter Flounder | 1,425 | 627 | 0 | 1,536 | 627 |  |
Redfish | 11,041 | 8,307 | −17 | 10,982 | 8,273 | 11,177 | 8,418
White Hake | 2,607 | 1,934 | 5 | 2,591 | 1,921 |  |
Pollock | 18,208 | 13,940 | −7 | 17,384 | 13,294 |  |
N Windowpane Flounder | UNK | 136 | −15 | UNK | 136 | UNK | 136
S Windowpane Flounder | 284 | 213 | −45 | 284 | 213 | 284 | 213
Ocean Pout | 125 | 87 | 0 | 125 | 87 |  |
Atlantic Halibut | UNK | 78 | −9 | UNK | 78 |  |
Atlantic Wolffish | 124 | 93 | 0 | 124 | 93 |  |
UNK = Unknown; CC = Cape Cod; SNE/MA = Southern New England/Mid-Atlantic.
Note: An empty cell indicates no OFL/ABC is adopted for that year. These catch limits would be set in a future action.

Table 3—Catch Limits for the 2024 Fishing Year
[mt, live weight]
Stock | Total ACL | Groundfish sub-ACL | Sector sub-ACL | Common pool sub-ACL | Recreational sub-ACL | Midwater trawl fishery | Scallop fishery | Small- mesh fisheries | State waters sub- component | Other sub- component
| A to H | A + B + C | A | B | C | D | E | F | G | H
GB Cod | 534 | 406 | 395 | 11 |  |  |  |  | 43 | 86
GOM Cod | 536 | 488 | 286 | 10 | 192 |  |  |  | 48 | 0
GB Haddock | 7,040 | 6,909 | 6,756 | 153 |  | 131 |  |  | 0 | 0
GOM Haddock | 2,346 | 2,268 | 1,479 | 31 | 759 | 22 |  |  | 48 | 8.0
GB Yellowtail Flounder | 70 | 58 | 55 | 3.3 |  |  | 11.0 | 1.3 | 0 | 0
SNE/MA Yellowtail Flounder | 40 | 35 | 27 | 7.6 |  |  | 2.7 |  | 0.2 | 2.0
CC/GOM Yellowtail Flounder | 990 | 921 | 881 | 39 |  |  |  |  | 30 | 40
American Plaice | 5,513 | 5,457 | 5,315 | 142 |  |  |  |  | 28 | 28
Witch Flounder | 1,254 | 1,204 | 1,163 | 41 |  |  |  |  | 19 | 31
GB Winter Flounder | 1,548 | 1,532 | 1,488 | 44 |  |  |  |  | 0 | 16
GOM Winter Flounder | 800 | 635 | 556 | 79 |  |  |  |  | 153 | 12.1
SNE/MA Winter Flounder | 624 | 461 | 408 | 53 |  |  |  |  | 19 | 144
Redfish | 8,303 | 8,303 | 8,226 | 77 |  |  |  |  | 0 | 0
White Hake | 1,933 | 1,923 | 1,905 | 18 |  |  |  |  | 0 | 10
Pollock | 13,934 | 12,818 | 12,696 | 122 |  |  |  |  | 627 | 488
N Windowpane Flounder | 127 | 94 | na | 94 |  |  | 27 |  | 0.0 | 6.8
S Windowpane Flounder | 205 | 30 | na | 30 |  |  | 71 |  | 6.4 | 98
Ocean Pout | 83 | 49 | na | 49 |  |  |  |  | 0 | 34
Atlantic Halibut | 75 | 58 | na | 58 |  |  |  |  | 16 | 1.2
Atlantic Wolffish | 87 | 87 | na | 87 |  |  |  |  | 0 | 0
na: not allocated to sectors.

Table 4—Catch Limits for the 2025 Fishing Year *
[mt, live weight]
Stock | Total ACL | Groundfish sub-ACL | Sector sub-ACL | Common pool sub-ACL | Recreational sub-ACL | Midwater trawl fishery | Scallop fishery | Small- mesh fisheries | State waters sub- component | Other sub- component
| A to H | A + B + C | A | B | C | D | E | F | G | H
GB Haddock | 5,111 | 5,011 | 4,894 | 117 |  | 100 |  |  | 0 | 0
GOM Haddock | 2,183 | 2,108 | 1,350 | 29 | 729 | 22 |  |  | 46 | 8
GB Yellowtail Flounder | 69 | 56 | 53 | 3.3 |  |  | 11 | 1.3 | 0 | 0
SNE/MA Yellowtail Flounder | 38 | 33 | 26 | 7.6 |  |  | 2.7 |  | 0.2 | 2.0
CC/GOM Yellowtail Flounder | 873 | 808 | 772 | 36 |  |  |  |  | 28 | 37
American Plaice | 5,009 | 4,956 | 4,821 | 136 |  |  |  |  | 26 | 26
Witch Flounder | 1,196 | 1,146 | 1,105 | 41 |  |  |  |  | 19 | 31
GB Winter Flounder | 1,446 | 1,431 | 1,389 | 42 |  |  |  |  | 0 | 15
GOM Winter Flounder | 772 | 607 | 528 | 79 |  |  |  |  | 153 | 12.1
SNE/MA Winter Flounder | 604 | 441 | 388 | 53 |  |  |  |  | 19 | 144
Redfish | 7,859 | 7,859 | 7,783 | 77 |  |  |  |  | 0 | 0
White Hake | 1,826 | 1,816 | 1,798 | 18 |  |  |  |  | 0 | 10
Pollock | 12,683 | 11,619 | 11,503 | 117 |  |  |  |  | 598 | 465
N Windowpane Flounder | 127 | 94 | na | 94 |  |  | 27 |  | 0.0 | 6.8
S Windowpane Flounder | 205 | 30 | na | 30 |  |  | 71 |  | 6.4 | 98
Ocean Pout | 83 | 49 | na | 49 |  |  |  |  | 0 | 34
Atlantic Halibut | 75 | 58 | na | 58 |  |  |  |  | 16 | 1.2
Atlantic Wolffish | 87 | 87 | na | 87 |  |  |  |  | 0 | 0
na: not allocated to sectors.
* Northeast multispecies stocks not included in table 4 do not have catch limits approved or proposed for fishing year 2025.

Table 5—Catch Limits for the 2026 Fishing Year *
[mt, live weight]
Stock | Total ACL | Groundfish sub-ACL | Sector sub-ACL | Common pool sub-ACL | Recreational sub-ACL | Midwater trawl fishery | Scallop fishery | Small- mesh fisheries | State waters sub- component | Other sub- component
| A to H | A + B + C | A | B | C | D | E | F | G | H
Redfish | 7,997 | 7,997 | 7,919 | 78 |  |  |  |  | 0 | 0
N Windowpane Flounder | 127 | 94 | na | 94 |  |  | 27 |  | 0.0 | 7
S Windowpane Flounder | 205 | 30 | na | 30 |  |  | 71 |  | 6 | 98
na: not allocated to sectors.
* Northeast multispecies stocks not included in table 5 do not have catch limits approved or proposed for fishing year 2026.

Table 6—Fishing Years 2024-2026 Common Pool Trimester TACs
[mt, live weight]
Stock | 2024: Trimester 1 | 2024: Trimester 2 | 2024: Trimester 3 | 2025: Trimester 1 | 2025: Trimester 2 | 2025: Trimester 3 | 2026: Trimester 1 | 2026: Trimester 2 | 2026: Trimester 3
GB Cod | 3.1 | 3.8 | 4.3 |  |  |  |  |  |
GOM Cod | 4.8 | 3.2 | 1.8 |  |  |  |  |  |
GB Haddock | 41.3 | 50.5 | 61.2 | 31.5 | 38.5 | 46.7 |  |  |
GOM Haddock | 8.2 | 7.9 | 14.3 | 7.9 | 7.6 | 13.8 |  |  |
GB Yellowtail Flounder | 0.6 | 1.0 | 1.7 | 0.6 | 1.0 | 1.7 |  |  |
SNE/MA Yellowtail Flounder | 1.6 | 2.1 | 3.9 | 1.6 | 2.1 | 3.9 |  |  |
CC/GOM Yellowtail Flounder | 22.5 | 10.2 | 6.7 | 20.7 | 9.4 | 6.2 |  |  |
American Plaice | 105.3 | 11.4 | 25.6 | 100.5 | 10.9 | 24.4 |  |  |
Witch Flounder | 22.3 | 8.1 | 10.2 | 22.3 | 8.1 | 10.2 |  |  |
GB Winter Flounder | 3.5 | 10.6 | 29.9 | 3.4 | 10.2 | 28.8 |  |  |
GOM Winter Flounder | 29.2 | 29.9 | 19.7 | 29.2 | 29.9 | 19.7 |  |  |
Redfish | 19.3 | 23.9 | 33.9 | 19.2 | 23.8 | 33.7 | 19.5 | 24.2 | 34.4
White Hake | 6.8 | 5.6 | 5.6 | 6.8 | 5.5 | 5.5 |  |  |
Pollock | 34.2 | 42.8 | 45.2 | 32.6 | 40.8 | 43.1 |  |  |

Table 7—Common Pool Incidental Catch TACs for the 2024-2026 Fishing Years
[mt, live weight]
Stock | Percentage of common pool sub-ACL | 2024 | 2025 | 2026
GB Cod | 1.68 | 0.19 |  |
GOM Cod | 1 | 0.10 |  |
GB Yellowtail Flounder | 2 | 0.07 | 0.07 |
CC/GOM Yellowtail Flounder | 1 | 0.39 | 0.36 |
American Plaice | 5 | 7.12 | 6.79 |
Witch Flounder | 5 | 2.03 | 2.03 |
SNE/MA Winter Flounder | 1 | 0.53 | 0.53 |

Table 8—Percentage of Incidental Catch TACs Distributed to Each Special Management Program
Stock | Regular B DAS program (percent) | Eastern U.S./CA haddock SAP (percent)
GB Cod | 60 | 40
GOM Cod | 100 | n/a
GB Yellowtail Flounder | 50 | 50
CC/GOM Yellowtail Flounder | 100 | n/a
American Plaice | 100 | n/a
Witch Flounder | 100 | n/a
SNE/MA Winter Flounder | 100 | n/a
n/a: not applicable.

Table 9—Fishing Years 2024-2026 Incidental Catch TACs for Each Special Management Program
[mt, live weight]
Stock | Regular B DAS program: 2024 | Regular B DAS program: 2025 | Regular B DAS program: 2026 | Eastern U.S./Canada haddock SAP: 2024 | Eastern U.S./Canada haddock SAP: 2025 | Eastern U.S./Canada haddock SAP: 2026
GB Cod | 0.11 |  |  | 0.08 |  |
GOM Cod | 0.10 |  |  | n/a | n/a | n/a
GB Yellowtail Flounder | 0.03 | 0.03 |  | 0.03 | 0.03 |
CC/GOM Yellowtail Flounder | 0.39 | 0.36 |  | n/a | n/a | n/a
American Plaice | 7.12 | 6.79 |  | n/a | n/a | n/a
Witch Flounder | 2.03 | 2.03 |  | n/a | n/a | n/a
SNE/MA Winter Flounder | 0.53 | 0.53 |  | n/a | n/a | n/a
n/a: not applicable.

Table 10—Fishing Years 2024-2026 Regular B DAS Program Quarterly Incidental Catch TACs
[mt, live weight]
Stock | 2024: 1st Quarter (13%) | 2024: 2nd Quarter (29%) | 2024: 3rd Quarter (29%) | 2024: 4th Quarter (29%) | 2025: 1st Quarter (13%) | 2025: 2nd Quarter (29%) | 2025: 3rd Quarter (29%) | 2025: 4th Quarter (29%) | 2026: 1st Quarter (13%) | 2026: 2nd Quarter (29%) | 2026: 3rd Quarter (29%) | 2026: 4th Quarter (29%)
GB Cod | 0.01 | 0.03 | 0.03 | 0.03 |  |  |  |  |  |  |  |
GOM Cod | 0.01 | 0.03 | 0.03 | 0.03 |  |  |  |  |  |  |  |
GB Yellowtail Flounder | 0.00 | 0.01 | 0.01 | 0.01 | 0.00 | 0.01 | 0.01 | 0.01 |  |  |  |
CC/GOM Yellowtail Flounder | 0.05 | 0.11 | 0.11 | 0.11 | 0.05 | 0.11 | 0.11 | 0.11 |  |  |  |
American Plaice | 0.92 | 2.06 | 2.06 | 2.06 | 0.88 | 1.97 | 1.97 | 1.97 |  |  |  |
Witch Flounder | 0.26 | 0.59 | 0.59 | 0.59 | 0.26 | 0.59 | 0.59 | 0.59 |  |  |  |
SNE/MA Winter Flounder | 0.07 | 0.15 | 0.15 | 0.15 | 0.07 | 0.15 | 0.15 | 0.15 |  |  |  |

Sector Annual Catch Entitlements (ACE)

On April 5, 2024, NMFS allocated stocks to each sector, based on the fishing year 2024 catch limits set by prior frameworks (89 FR 23941, April 5, 2024). This rule updates the ACE allocated to sectors based on the catch limits approved in Framework 66, fishing year 2024 PSC, and preliminary fishing year 2024 sector rosters. NMFS calculates a sector's allocation for each stock by summing its members' PSC for the stock and then multiplying that total percentage by the commercial sub-ACL for that stock. The process for allocating ACE to sectors is further described in the rule allocating ACE to sectors for fishing year 2024 and is not repeated here (see 89 FR 23941, April 5, 2024).

Table 11 shows the cumulative PSC by stock for each sector for fishing year 2024. Tables 12 and 13 show the ACEs allocated to each sector for fishing year 2024, in pounds (lb) and mt, respectively. The common pool sub-ACLs are included in tables 11 through 13 for comparison. All permits enrolled in a sector, and the vessels associated with those permits, have until April 30, 2024, to withdraw from a sector and fish in the common pool for the 2024 fishing year. In addition, all permits that change ownership after the roster deadline of March 13, 2024, may join a sector through April 30, 2024. NMFS will publish final sector and common pool sub-ACLs based on final 2024 rosters as soon as practicable after the start of the 2024 fishing year.

BILLING CODE 3510-22-P

BILLING CODE 3510-22-C

Modification to the Catch Thresholds for Implementing Accountability Measures

As more fully described in the proposed rule, Framework 66 modifies the catch threshold for implementing the Atlantic halibut AMs. In the situation where the Atlantic halibut ACL is exceeded by more than the management uncertainty buffer, NMFS would take into account the landings from the Canadian fishery for the last calendar year and determine whether, when combined with the landings by U.S. fisheries (Federal and state), the total ABC had been exceeded as well. Framework 66 does not make any changes to the AMs themselves, which are a combination of a zero-possession limit and gear-area restrictions.

Framework 66 modifies the catch threshold for implementing the scallop fishery's AMs for GB yellowtail flounder for the 2024 and 2025 fishing years, so that the AMs for GB yellowtail flounder would only be implemented if the scallop fishery catch exceeds its sub-ACL by any amount and the total ACL is also exceeded. Unless this modification is extended in a future action, the underlying policy for implementing the scallop fishery's AM for GB cod would be in effect for catches in fishing year 2026 and beyond. This temporary modification is more fully described in the proposed rule.

Minor, Clarifying Regulatory Changes Under Secretarial Authority

Framework 66 makes minor, clarifying changes in the regulations. Specifically, this action revises § 648.90(a)(5)(i)(F) to reorganize the section to improve clarity and readability regarding the Atlantic halibut AMs.

Comments and Responses on Measures Proposed in the Framework 66 Proposed Rule

We received two comment submissions covering numerous issues regarding the Framework 66 proposed rule from Northeast Seafood Coalition (NSC) and a member of the public.

Specifications

Comment 1: NSC wrote in support of setting the ABC for white hake at 75 percent of the fishing mortality associated with maximum sustainable yield (FMSY) for two years, citing that this will still allow for the stock to rebuild by 2031. NSC also supports increasing the GOM haddock ABC to the level of 90 percent FMSY for fishing years 2024 and 2026, given the healthy population level and the potential economic impacts of a lower quota. A member of the public wrote in support of all the catch limits proposed in Framework 66.

Response 1: NMFS agrees and is approving the specifications as proposed.

Comment 2: NSC expressed concern regarding the proposed shared U.S./Canada quota for GB yellowtail flounder. NSC commented that the calculation of this quota follows a harvest strategy known as the Limiter Approach, designed to use data from three surveys. NSC noted that, in recent years, there have been missing survey data. NSC claims that the use of the Limiter Approach with missing survey data has not been adequately addressed. NSC recommends that NMFS prioritize scientific and management approaches that do not economically impact the commercial fishery, but does not provide an alternative to the quota that was recommended by the Council's SSC and by the TMGC, and proposed in Framework 66.

Response 2: NSC is echoing the concerns that the SSC raised when it made its recommendation of the shared U.S./Canada quota for GB yellowtail flounder of 168 mt. In the SSC's September 15, 2023, report to the Council, the SSC noted that it had previously accepted the use of the Limiter Approach despite the recognized uncertainty from having only two of the three surveys. In the last three years in which the Limiter Approach was used without all three surveys, sensitivity analyses were conducted to determine the potential impact of the missing information. For 2023, no adjustment was made to the Limiter Approach to account for the missing survey because these analyses showed that the impact of missing that particular survey was minimal.

The SSC also noted that the Yellowtail Flounder Research Track Stock Assessment was ongoing and evaluating alternative assessment approaches for GB yellowtail flounder to replace, or improve upon, the Limiter Approach. While the SSC acknowledged in its September 2023 report that fishing does not appear to be a “major driver” of stock status currently, it also argued that for a stock that has experienced overfishing historically and the causal mechanisms for lack of rebuilding are “difficult to know with certainty,” and therefore, the SSC advised caution when managing this stock. NMFS will continue to support the yellowtail research track assessment process (Memorandum from SSC to Dr. Cate O'Keefe, Council Executive Director, September 15, 2023).

Comment 3: NSC wrote in support of removing the management uncertain buffer for sectors for GOM haddock and white hake for the upcoming fishing year.

Response 3: NMFS agrees and is approving this measure. Additionally, because the management uncertainty buffer by regulation defaults to zero when the ASM coverage target is 100 percent, NMFS is removing the management uncertainty buffer for each allocated stock for all sectors for the entirety of the 2024 fishing year based on the preliminary ASM coverage target of 100 percent.

Accountability Measure Modifications

Comment 4: NSC supports the modifications of catch threshold for implementing AMs, for both Atlantic halibut and the scallop fishery's catch of GB yellowtail flounder.

Response 4: NMFS agrees and is approving both measures.

Changes From the Proposed Rule

NMFS made one change to the proposed rule. The proposed rule's section Annual Catch Limits included sector and common pool sub-ACLs based on fishing year 2023 PSCs and final fishing year 2023 sector rosters but did not include the PSCs and ACEs allocated to each sector. This final rule updates the total ACLs and sector and common pool sub-ACLs based on the ASM coverage target of 100 percent and the 2024 PSCs and preliminary fishing year 2024 sector rosters, and includes the PSCs and ACEs at the sector level.

Classification

NMFS is issuing this rule pursuant to sections 304(b)(3) and 305(d) of the Magnuson-Stevens Act, which provide specific authority for implementing this action. Pursuant to section 305(d), this action sets specifications for stocks managed by the Northeast Multispecies FMP as recommended by the Council, in accordance with § 648.90(a)(4), makes minor, clarifying changes in the regulations for the Northeast Multispecies FMP, and is necessary to carry out the Northeast Multispecies FMP. The NMFS Assistant Administrator has determined that this final rule is consistent with Framework Adjustment 66, the Northeast Multispecies FMP, other provisions of the Magnuson-Stevens Act, and other applicable law.

This final rule has been determined to be not significant for purposes of Executive Order (E.O.) 12866, as amended by E.O. 14094. This final rule does not contain policies with federalism or takings implications as those terms are defined in E.O. 13132 and E.O. 12630, respectively.

The Assistant Administrator for Fisheries finds that waiver of the 30-day delayed effectiveness of this action pursuant to 5 U.S.C. 553(d)(1) and 553(d)(3) is justified. This action relies on the best available science to set fishing year 2024 catch limits for groundfish stocks and adopts several other measures to improve the management of the groundfish fishery. This final rule must be implemented as soon as possible to capture fully the conservation and economic benefits of Framework 66 and avoid adverse economic impacts.

This action was developed by the New England Fishery Management Council as part of the annual Framework Adjustment process, during which final action was taken in December 2023. The Council submitted the final Framework on February 16, 2024. Given the timing of the Council process and submission, the earliest NMFS was able to publish a proposed rule for Framework 66 was on March 22, 2024.

A delay in implementation of this rule increases negative economic effects for regulated entities. Several stocks did not have 2024 quotas set by a previous framework. A separate action implemented default quotas for those stocks (75 percent of the 2023 quota). For several stocks, the fishery is operating under lower quotas than those implemented by this rule. A delay could limit economic opportunities for the fishery, as well as lead to confusion and uncertainty. A delay would also increase the administrative burden and costs for groundfish sectors of tracking temporary quotas and coordinating fishing effort relating to those quotas, and then having to reprogram their data systems to adjust to the revised quotas. Providing timely access to these stocks is also a potential safety issue. A significant portion of fishing activity occurs in early summer, due to better weather, and, for some smaller vessels, summer may be the only season in which they are able to participate in the fishery.

Additionally, this rule contains no new measures (e.g., gear requirements) for which regulated entities need time to prepare or revise their current practices. Fishermen who are subject to this action expect and need timely implementation to avoid adverse economic impacts. This action is similar to the process used to set quotas every 1-2 years, approves all items as proposed, and contains only quotas and minor adjustments to the management plan that were discussed at multiple noticed meetings where the public was provided opportunity to learn about the action, ask questions, and provide input into the development of the measures. Affected parties and other interested parties participated in this public process to develop this action and desire implementation as close to the beginning of the fishing year on May 1 as possible.

Section 553(d)(1) of the Administrative Procedure Act permits that the 30-day delay in effectiveness be waived for substantive rules that relieve a restriction (5 U.S.C. 553(d)(1)). Once this rule goes into effect, all fisherman impacted by the action will be under new quota limits that increase their opportunity to fish. Until the rule is in effect, those fishermen are effectively restricted in their opportunity to fish. Therefore, waiving the 30-day delay for this rule would relieve the restriction on the fishermen. Additionally, relieving the restriction on catch from application of the management uncertainty buffer increases available quota and provides economic opportunities, operational flexibility, and prevents potential earlier closures of fisheries.

In sum, a delay in implementation of this action would greatly diminish the benefits of these specifications and other approved measures. For these reasons, a 30-day delay in the effectiveness of this rule is impracticable and contrary to the public interest.

Final Regulatory Flexibility Analysis

Section 604 of the Regulatory Flexibility Act (RFA) requires Federal agencies to prepare a Final Regulatory Flexibility Analysis (FRFA) for each final rule that describes the economic impact of this action on small entities (5 U.S.C. 604). The FRFA includes a summary of significant issues raised by public comments, the analyses contained in Framework 66 and its accompanying Environmental Assessment, Regulatory Impact Review, and Initial Regulatory Flexibility Analysis (IRFA), the IRFA summary in the proposed rule, as well as the summary provided below. A statement of the necessity for and for the objectives of this action are contained in Framework 66 and in the preamble to this final rule, and is not repeated here.

A Summary of the Significant Issues Raised by the Public in Response to the IRFA, a Summary of the Agency's Assessment of Such Issues, and a Statement of Any Changes Made in the Final Rule as a Result of Such Comments

NMFS received one comment expressing concern about the economic impacts of this action and has summarized the comments in the comments and responses section of this rule. None of the comments received were directly related to the IRFA, or provided information that changed the conclusions of the IRFA. The Chief Counsel for the Office of Advocacy of the Small Business Administration (SBA) did not file any comments. NMFS made no changes to the proposed rule measures.

Description and Estimate of the Number of Small Entities to Which the Rule Would Apply

The final rule impacts the recreational groundfish, Atlantic sea scallop, small mesh multispecies, Atlantic herring, and large-mesh non-groundfish fisheries. Individually-permitted vessels may hold permits for several fisheries, harvesting species of fish that are regulated by several different FMPs, even beyond those impacted by the action. Furthermore, multiple-permitted vessels and/or permits may be owned by entities affiliated by stock ownership, common management, identity of interest, contractual relationships, or economic dependency. For the purposes of the RFA analysis, the ownership entities, not the individual vessels, are considered to be the regulated entities.

As of June 1, 2023, NMFS had issued 675 commercial limited-access groundfish permits associated with vessels (including those in confirmation of permit history (CPH)), 639 party/charter groundfish permits, 696 limited access and general category Atlantic sea scallop permits, 694 small-mesh multispecies permits, 73 Atlantic herring permits, and 752 large-mesh non-groundfish permits (limited access summer flounder and scup permits). Therefore, this action potentially regulates 3,529 permits. When accounting for overlaps between fisheries, this number falls to 2,029 permitted vessels. Each vessel may be individually owned or part of a larger corporate ownership structure and, for RFA purposes, it is the ownership entity that is ultimately regulated by the action. Ownership entities are identified on June 1st of each year based on the list of all permit numbers, for the most recent complete calendar year, that have applied for any type of Greater Atlantic Region Federal fishing permit. The current ownership data set is based on calendar year 2022 permits and contains gross sales associated with those permits for calendar years 2018 through 2022.

For RFA purposes only, NMFS has established a small business size standard for businesses, including their affiliates, whose primary industry is commercial fishing (see 50 CFR 200.2). A business primarily engaged in commercial fishing (North American Industry Classification System (NAICS) code 11411) is classified as a small business if it is independently owned and operated, is not dominant in its field of operation (including its affiliates) and has combined annual receipts not in excess of $11 million for all its affiliated operations worldwide. The determination as to whether the entity is large or small is based on the average annual revenue for 2018 through 2022. The SBA has established size standards for all other major industry sectors in the U.S., including for-hire fishing (NAICS code 487210). These entities are classified as small businesses if combined annual receipts are not in excess of $8.0 million for all of an entity's affiliated operations. As with commercial fishing businesses, the annual average of the most recent years (2018-2022) is utilized in determining annual receipts for businesses primarily engaged in for-hire fishing.

Based on the ownership data, 1,538 distinct business entities hold at least one permit that this action regulates. All 1,538 business entities identified could be directly regulated by this action. Of these 1,538 entities, 871 are commercial fishing entities, 291 are for-hire entities, and 376 did not have revenues (i.e., were inactive in 2022). Of the 871 commercial fishing entities, 860 are categorized as small entities and 11 are categorized as large entities, per the NMFS guidelines. Furthermore, 520 of these commercial fishing entities held limited access groundfish permits, with 516 of these entities being classified as small businesses and 4 of these entities being classified as large businesses. All 291 for-hire entities are categorized as small businesses.

Description of the Projected Reporting, Record-Keeping, and Other Compliance Requirements of This Final Rule

The action does not contain any new collection-of-information requirements under the Paperwork Reduction Act.

Description of the Steps the Agency Has Taken To Minimize the Significant Economic Impact on Small Entities Consistent With the Stated Objectives of Applicable Statutes

The economic impacts of each measure are discussed in more detail in sections 6.5 and 7.12 of the Framework 66 Environmental Assessment (see ADDRESSES) and are not repeated here. NMFS notes that, overall, for the updated groundfish specifications and the modifications to the AMs in this final rule, the No Action alternative was the only other alternative considered by the Council. There are no significant alternatives that would minimize the economic impacts. The action is predicted to generate $40.8 million in gross revenues for the sector portion of the commercial groundfish trips. This amount is $20.4 million more than the amount of gross revenues under the No Action alternative, but $3.9 million less than the amount of gross revenues generated in fishing year 2022. Small entities engaged in common pool groundfish fishing are expected to be positively impacted by the action as well, relative to the No Action alternative. Small entities engaged in the recreational groundfish fishery are likely to be negatively impacted by the decrease in the GOM haddock sub-ACL. Sub-ACL decreases for groundfish stocks allocated to the Atlantic sea scallop fishery and the large-mesh non-groundfish fishery may negatively affect small entities engaged in those fisheries. The temporary modification to the scallop fishery's AM implementation catch threshold for GB yellowtail flounder for fishing years 2024 and 2025 will reduce the likelihood of negative impacts to the scallop fishery.

Small Entity Compliance Guide

Section 212 of the Small Business Regulatory Enforcement Fairness Act of 1996 states that, for each rule or group of related rules for which an agency is required to prepare a FRFA, the agency will publish one or more guides to assist small entities in complying with the rule and will designate such publications as “small entity compliance guides” that will explain the actions a small entity is required to take to comply with a rule or group of rules. As part of this rulemaking process, a bulletin to permit holders that also serves as a small entity compliance guide was prepared. This final rule and the guide (i.e., bulletin) will be sent via email to the Greater Atlantic Regional Fisheries Office Northeast multispecies fishery email list, as well as the email lists for the scallop and herring fisheries, which receive an allocation of some groundfish stocks. The final rule and the guide are available from NMFS at: https://www.fisheries.noaa.gov/management-plan/northeast-multispecies-management-plan. Hard copies of the guide and this final rule will be available upon request (see ADDRESSES).

List of Subjects in 50 CFR Part 648

Fisheries, Fishing, Recordkeeping and reporting requirements.

Dated: April 29, 2024.
Samuel D. Rauch, III,
Deputy Assistant Administrator for Regulatory Programs, National Marine Fisheries Service.

For the reasons stated in the preamble, NMFS amends 50 CFR part 648 as follows:

PART 648—FISHERIES OF THE NORTHEASTERN UNITED STATES

1. The authority citation for part 648 continues to read as follows:

Authority: 16 U.S.C. 1801 et seq.

2. In § 648.90, revise paragraph (a)(5)(i)(F) and add paragraph (a)(5)(iv)(B) to read as follows:

§ 648.90 NE multispecies assessment, framework procedures and specifications, and flexible area action system.

* * * * *

(a) * * *

(5) * * *

(i) * * *

(F) Atlantic halibut. If NMFS determines, as described in paragraph (a)(5)(i)(D) of this section, that the overall ACL for Atlantic halibut is exceeded by catch from U.S. Federal and state fisheries by any amount greater than the management uncertainty buffer and, after accounting for the amount of landings of Atlantic halibut from Canadian fisheries, as appropriate, that the total ABC for Atlantic halibut has also been exceeded, the applicable AM shall be implemented as described in paragraph (a)(5)(i)(F)(1) of this section. If a sub-ACL for Atlantic halibut is allocated to another fishery, consistent with the process specified at § 648.90(a)(4), and there are AMs for that fishery, the multispecies fishery AM shall only be implemented if the sub-ACL allocated to the multispecies fishery is exceeded (i.e., the sector and common pool catch for a particular stock, including the common pool's share of any overage of the overall ACL caused by excessive catch by other sub-components of the fishery pursuant to § 648.90(a)(5), exceeds the common pool sub-ACL) and the overall ACL is also exceeded.

(1) Description of AM. When the AM is implemented, any vessel issued a Federal permit for any fishery management plan may not fish for, possess, or land Atlantic halibut for the fishing year in which the AM is implemented, as specified in paragraph (a)(5)(i)(F) of this section, unless otherwise specified in paragraph (a)(5)(i)(F)(2) of this section. Additionally, the applicable AM areas, as defined in paragraph (a)(5)(i)(F)(4) of this section, shall be implemented as follows: Any vessel issued a limited access NE multispecies permit and fishing with trawl gear in the Atlantic Halibut Trawl Gear AM Area may only use a haddock separator trawl, as specified in § 648.85(a)(3)(iii)(A); a Ruhle trawl, as specified in § 648.85(b)(6)(iv)(J)(3); a rope separator trawl, as specified in § 648.84(e); or any other gear approved consistent with the process defined in § 648.85(b)(6), except that selective trawl gear is not required in the portion of the Trawl Gear AM Area between 41 degrees 40 minutes and 42 degrees from April 1 through July 31. When in effect, a limited access NE multispecies permitted vessel with gillnet gear may not fish or be in the Atlantic Halibut Fixed Gear AM Area from March 1 through October 31, unless transiting with its gear stowed and not available for immediate use as defined in § 648.2, or such gear was approved consistent with the process defined in § 648.85(b)(6).

(2) Vessels exempt from the no possession AM. Vessels issued only a charter/party permit, and/or an Atlantic highly migratory species angling permit, and/or an Atlantic highly migratory species charter/headboat permit are exempt from the no possession AM. This exemption does not apply to any vessel that is issued any other permit that is subject to the AM. For example, a vessel issued a Northeast multispecies charter/party permit and a bluefish charter/party permit would be exempt from the no possession AM, but a vessel issued a Northeast multispecies charter/party permit and a commercial bluefish permit would not be exempt from the no possession AM.

(3) Review of the AM. If the overall ACL is exceeded by more than 20 percent, the Council shall revisit the AM in a future action.

(4) Atlantic halibut AM area. The AM areas defined below are bounded by the following coordinates, connected in the order listed by rhumb lines, unless otherwise noted.

Table 1 to Paragraph (a)(5)(i)(F)(4)
Atlantic halibut trawl gear AM area: Points | Atlantic halibut trawl gear AM area: N latitude | Atlantic halibut trawl gear AM area: W longitude
1 | 42°00′ | 69°20′
2 | 42°00′ | 68°20′
3 | 41°30′ | 68°20′
4 | 41°30′ | 69°20′

Table 2 to Paragraph (a)(5)(i)(F)(4)
Atlantic halibut gillnet gear AM area: Points | Atlantic halibut gillnet gear AM area: N latitude | Atlantic halibut gillnet gear AM area: W longitude
1 | 43°10′ | 69°40′
2 | 43°10′ | 69°30′
3 | 43°00′ | 69°30′
4 | 43°00′ | 69°40′

* * * * *

(iv) * * *

(B) 2024 and 2025 fishing year threshold for implementing the Atlantic sea scallop fishery AM for GB yellowtail flounder. For the 2024 and 2025 fishing years, if scallop fishery catch exceeds the GB yellowtail flounder sub-ACL specified in paragraph (a)(4) of this section, and total catch exceeds the overall ACL for that stock, then the applicable scallop fishery AM will take effect, as specified in § 648.64 of the Atlantic sea scallop regulations. For the 2026 fishing year and onward, the threshold for implementing scallop fishery AMs for GB yellowtail flounder will return to that listed in paragraph (a)(5)(iv)(A) of this section.

* * * * *

[FR Doc. 2024-09569 Filed 5-1-24; 8:45 am]

BILLING CODE 3510-22-P